DEPARTMENT OF DEFENSE

Department of the Army; Corps of Engineers

Notice of Availability of the Draft Environmental Impact Statement for the Proposed South Coast Rail Project, Commonwealth of Massachusetts, Department of the Army Permit Application Number NAE-2007-00698

AGENCY: Department of the Army, U.S. Army Corps of Engineers, DoD.

ACTION: Notice of Availability.

SUMMARY: Pursuant to section 102(2)(c) of the National Environmental Policy Act (NEPA) of 1969, as implemented by the Council on Environmental Quality regulations (40 CFR parts 1500-1508), the New England District, U.S. Army Corps of Engineers (Corps) has prepared a Draft Environmental Impact Statement (DEIS) to evaluate a proposed establishment of public transportation service between Boston and the Cities of New Bedford and Fall River, MA. The Massachusetts Department of Transportation (MassDOT; formerly the Executive Office of Transportation and Public Works or EOT) has submitted an application for a Department of the Army permit to discharge fill material into waters of the United States (U.S.), ranging in area from approximately 10.3 to approximately 21.5 acres (depending on the alternative selected), including wetlands, incidental to the establishment of transportation infrastructure. The Notice of Intent for preparation of the DEIS was published in the Federal Register (73 FR 64927, October 31, 2008).

DATES: The Corps will hold two public hearings to receive comments on the DEIS. The public hearings will be held on:

1. May 4, 2011, 7 P.M., Qualters Middle School, 240 East Street, Mansfield, MA.

2. May 5, 2011, 7 P.M., Keith Middle School, 225 Hathaway Blvd., New Bedford, MA.

Written comments on the DEIS must be received no later than: May 27, 2011.

Additional information on how to submit comments is included in the (SUPPLEMENTARY INFORMATION) section.

ADDRESSES: Comments can be sent to Mr. Alan Anacheka-Nasemann, Project Manager, U.S. Army Corps of Engineers, New England District, Regulatory Division, ATTN: CENAE-R-PEA, 696 Virginia Road, Concord, MA, by fax at 978-318-8303, or by e-mail to: SCREIS@usace.army.mil.

FOR FURTHER INFORMATION CONTACT: Mr. Alan Anacheka-Nasemann, (978) 318-8214, e-mail: SCREIS@usace.army.mil.

SUPPLEMENTARY INFORMATION: MassDOT has submitted an application under Section 404 of the Clean Water Act (33 U.S.C. 1344) for a Department of the Army permit to discharge fill material into waters of the U.S. incidental to establishment of commuter public transportation service between Boston and New Bedford and Fall River, MA, and known as “South Coast Rail.” The overall project purpose is to more fully meet the existing and future demand for public transportation between Fall River/New Bedford and Boston, MA and to enhance regional mobility. The project envisions up to approximately 9600 passenger daily trips between Boston and New Bedford/Fall River.

Elements of all of the alternatives proposed by MassDOT would be located in waters of the United States. The proposed alternative routes could affect high quality natural resources, including Commonwealth of Massachusetts Wildlife Management Areas and Areas of Critical Environmental Concern. In addition, all of the proposed alternative routes would affect historic and cultural resources, including properties eligible for listing on the National Register of Historic Places, National Historic Landmarks and historic districts that have cultural importance in the affected communities. Consultation on the extent of the impacts on these resources is ongoing with State and Tribal Historic Preservation Offices pursuant to Section 106 of the National Historic Preservation Act.

The DEIS is intended to provide the information needed for the Corps to perform a public interest review for the Section 404 permit decision. Significant issues analyzed in the DEIS included impacts to waters of the U.S. (including vernal pools and other wetlands), transportation, land use, socioeconomics, environmental justice, visual effects, noise, vibration, cultural resources, air quality, open space, farmland, hazardous materials, biodiversity, threatened and endangered species, and water resources. Several alternatives were evaluated for comparative purposes, including the No Action Alternative under which no new transportation infrastructure would be built.

The “Attleboro Alternative” would add new rail service via the existing AMTRAK Northeast Corridor, with added capacity, new track and existing freight lines, from Boston via Attleboro and Norton to Taunton. The new track (“Attleboro bypass”) would be laid near Chartley Pond in the vicinity of an existing National Grid electrical line right-of-way.

The “Stoughton Alternative” would extend the existing Stoughton commuter rail line from its current terminus in Stoughton along presently abandoned railroad rights-of-way through Easton and Raynham to Taunton. This would follow an existing, abandoned railroad grade that crosses Hockomock Swamp and Pine Swamp to the east side of Taunton.

The “Whittenton Alternative” is a variant of the Stoughton Alternative, and would extend the existing Stoughton commuter rail line from its current terminus in Stoughton along presently abandoned railroad rights-of-way through Easton and Raynham to Taunton. This would follow the existing, abandoned railroad grade that crosses Hockomock Swamp and then an abandoned, serpentine (winding) railroad grade to the west side of Taunton.

Continuation of all three rail alternatives from Taunton would follow existing, active freight lines through Lakeville and Freetown to New Bedford and Fall River. These links between Taunton and New Bedford/Fall River are common to all three rail alternatives identified above. In addition, all three routes would entail the addition of new train stations and major reconstruction of existing stations.

The “Rapid Bus” Alternative would provide commuter bus service, in lieu of rail, from New Bedford, Fall River and Taunton to South Station via I-93, Route 24, and Route 140. Buses would use a combination of new zipper bus lanes, new reversible bus lanes, two-way bus lanes, and general purpose lanes in mixed traffic. New bus stations would serve New Bedford, Fall River, Freetown, and Taunton.

The No-Build Alternative would provide enhancements to existing bus services with limited improvements to the existing transit and roadway system, but otherwise no major infrastructure improvements.

Other Environmental Review and Consultation Requirements. To the fullest extent possible, the DEIS integrated analyses and consultation required by the Endangered Species Act of 1973, as amended (Pub. L. 93-205; 16 U.S.C. 1531, et seq.); the National Historic Preservation Act of 1966, as amended (Pub. L. 89-855; 16 U.S.C. 470, et seq.); the Fish and Wildlife Coordination Act of 1958, as amended (Pub. L. 85-624; 16 U.S.C. 661, et seq.); the Coastal Zone Management Act of 1972, as amended (Pub. L. 92-583; 16 U.S.C. 1451, et seq.); the Clean Water Act of 1977, as amended (Pub. L. 92-500; 33 U.S.C. 1251, et seq.; 33 U.S.C. 1344(b)); Section 10 of the Rivers and Harbors Act of 1899, 33 U.S.C. 403 et seq.); and applicable and appropriate Executive Orders. Additionally, the DEIS was prepared as a Draft Environmental Impact Report (DEIR) to satisfy the requirements of the Massachusetts Environmental Policy Act (MEPA; 301 CMR 11.00 et seq.). The MEPA review is being conducted simultaneously with the NEPA process.

Public Participation. Public comment on the proposal, and any or all of the alternative routes and modes is requested and encouraged. Any person wishing to comment on the DEIS can submit written comments to: Alan Anacheka-Nasemann, Project Manager, Regulatory Division, U.S. Army Corps of Engineers, New England District, 696 Virginia Road, Concord, Massachusetts 01742-2751, Reference File No. NAE-2007-00698, by fax at 978-318-8303, or by e-mail to SCREIS@usace.army.mil. The initial determinations made herein will be reviewed in light of comments submitted in response to this notice. All comments will be considered a matter of public record. Copies of comments will be forwarded to the applicant.

Interested parties may view the DEIS online at: http://www.nae.usace.army.mil/projects/ma/SouthCoastRail/southcoastrail.htm. The DEIS is also available to review at the following locations:

1. State Transportation Library of Massachusetts 10 Park Plaza, 2nd Floor, Boston, MA.

2. Russell Memorial Library, 88 Main Street, Acushnet, MA.

3. Attleboro Public Library, 74 North Main Street, Attleboro, MA.

4. Berkley Public Library. 3 North Main Street, Berkley, MA.

5. Boston Public Library, Central Library, 700 Boylston Street, Boston, MA.

6. Thayer Public Library, 798 Washington Street, Braintree, MA.

7. Canton Public Library, 786 Washington Street, Canton, MA.

8. Dedham Public Library, 43 Church St., Dedham, MA.

9. Ames Free Library, 15 Barrows Street, North Easton, MA.

10. Fall River Public Library, 104 North Main Street, Fall River, MA.

11. Boyden Library, 10 Bird Street, Foxborough, MA.

12. James White Memorial Library, 5 Washburn Rd., East Freetown, MA.

13. Lakeville Public Library, 4 Precinct Street, Lakeville, MA.

14. Mansfield Public Library, 255 Hope Street, Mansfield, MA.

15. Milton Public Library, 476 Canton Avenue, Milton, MA.

16. New Bedford Free Public Library, 613 Pleasant Street, New Bedford, MA.

17. Norton Public Library, 68 East Main Street, Norton, MA.

18. Thomas Crane Public Library, 40 Washington St., Quincy, MA.

19. Turner Free Library, 2 North Main Street, Randolph, MA.

20. Raynham Public Library, 760 South Main Street, Raynham, MA.

21. Sharon Public Library, 11 North Main Street, Sharon, MA.

22. Stoughton Library, 84 Park Street, Stoughton, MA.

23. Taunton Public Library, 12 Pleasant Street, Taunton, MA.

24. West Bridgewater Public Library, 80 Howard Street, West Bridgewater, MA.

Dated: March 18, 2011.
Lieutenant Colonel Steven M. Howell,
Deputy District Commander, U.S. Army Corps of Engineers, New England.

[FR Doc. 2011-7070 Filed 3-24-11; 8:45 am]

BILLING CODE 3720-58-P